DEPARTMENT OF AGRICULTURE

Food and Nutrition Service

Agency Information Collection Activities: Proposed Collection; Comment Request—National Universal Product Code (NUPC) Database

AGENCY: Food and Nutrition Service (FNS), USDA.

ACTION: Notice.

SUMMARY: In accordance with the Paperwork Reduction Act of 1995, this notice invites the general public and other public agencies to comment on this proposed information collection. This is a revision of a currently approved collection for the development and maintenance of a central repository containing information about authorized WIC foods as approved by various WIC State agencies.

DATES: Written comments must be received on or before June 1, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steve Porter, Food and Nutrition Service, U.S. Department of Agriculture, 3101 Park Center Drive, Room 528, Alexandria, VA 22302. Comments may also be submitted via fax to the attention of Steve Porter at 703-305-2196 or via email to Steve.Porter@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Steve Porter at 703-305-2721.

SUPPLEMENTARY INFORMATION:

Title: National Universal Product Code (NUPC) Database

Form Number: N/A

OMB Number: 0584-0552

Expiration Date: May 31, 2015

Type of Request: Revision of a currently approved collection

Abstract: The Special Supplemental Nutrition Program for Women, Infants and Children (WIC), (Pub. L. 109-85), provides low-income pregnant, breastfeeding, and postpartum women, infants, and children up to age five with nutritious supplemental foods. The program also provides nutrition education and referrals to health and social services.

The WIC Program is administered by the USDA Food and Nutrition Service (FNS). FNS provides grant funding and issues regulations which are utilized by WIC State agencies to operate the WIC Program and distribute benefits through local WIC clinics. The program operates throughout the 50 States, the District of Columbia, Guam, Puerto Rico, American Samoa, Commonwealth of the Northern Mariana Islands, the Virgin Islands, and in 34 Indian Tribal Organizations.

The USDA Food and Nutrition Service previously included WIC State agencies in burden calculations for the NUPC database. WIC State agencies have been removed from this burden calculation and will instead be included in the burden calculation associated with the final regulations for WIC Electronic Benefit Transfer promulgated as a result of The Healthy Hunger-Free Kids Act of 2010 (Pub. L. 111-296). The remainder of this abstract provides a brief description of WIC program operations and recent modifications to the NUPC database.

WIC State agencies are required to authorize eligible foods on their WIC food list by federal regulations at 7 CFR part 246. Under these regulations, State agencies must review food products for eligibility in accordance with Federal regulations and State agency policies. State agencies are not required to authorize all food products eligible under federal regulations, but generally select foods based on factors such as cost, availability and acceptability to participants. After review, the State agency develops a list of food items available to WIC participants for purchase. State agencies require Authorized Vendors (i.e., stores authorized to provide WIC foods) to ensure only authorized food items are purchased. A few of these vendors have programmed their point of sale systems to identify WIC approved foods and their associated Universal Product Code (UPC) or Price Look-Up (PLU) code as individual products are scanned at the checkout; however, many vendors still rely on their checkout clerks to ensure only authorized WIC products are approved for purchase.

WIC State agencies currently operating Electronic Benefit Transfer (EBT) systems provide their Authorized Vendors with an electronic file containing the State agency's current list of authorized foods. This food list is known as the Authorized Products List (APL). In State agencies where EBT systems are operational, as products are scanned at the checkout lane, the UPC or PLU is matched to the State specific APL. Food items matching the APL, and which are presented in quantities less than or equal to the remaining benefit balance associated with the participant's WIC EBT card, are approved for purchase. Unmatched items, or items in excess of the available account balance, may not be purchased with WIC benefits.

The Healthy, Hunger-Free Kids Act of 2010 directs the Secretary of Agriculture to establish a National Universal Product Code (NUPC) database for use by all WIC State agencies as they implement Electronic Benefit Transfer (EBT) statewide. As a result of this legislation, FNS has adopted a plan to expand the number of data elements contained in the existing NUPC database while simultaneously attempting to reduce the burden on WIC State agency employees tasked with creating State specific APL's by assembling food product information in an easily accessible repository.

NUPC database modifications and expansion activities have allowed for the storage and retrieval of additional data elements for each WIC authorized food to include: Nutrition facts panel, ingredients, special processing practices (i.e., Kosher or Halal), and a free form comments field. All previously used product identifier fields were retained. Responsibility for populating the NUPC database, which previously resided with individual WIC State agencies, has been transferred to an independent contractor who will serve as the single point of entry for all information entering the NUPC database. This contractor will ensure NUPC data is captured with a high level of accuracy while preserving data integrity in a standardized format.

The NUPC database will provide all WIC State agencies with access to a central repository containing comprehensive information about authorized WIC foods. State agencies may choose to use the NUPC database to create an initial list of authorized foods eligible for redemption by WIC Program participants. Subsequently, State agencies may use the NUPC database to maintain their list of authorized foods and to create an APL for distribution to Authorized Vendors when operating in the EBT environment.

Affected Public: Businesses or Other For Profit Organizations. Respondent groups identified include: (1) Food Manufacturers and Distributors; and (2) Authorized Vendors.

Estimated Number of Respondents: The total estimated number of respondents is 360. This includes 240 Food Manufacturers or Distributors and 120 Authorized Vendors.

Estimated Frequency of Responses per Respondent: 3.33. The 240 Food Manufacturers or Distributors will be asked to provide product information in electronic format (.doc, .xls, .pdf). All responses are voluntary. FNS estimates that each of the Food Manufacturers or Distributors will be asked to provide product information 4 times per year on average and that each of the 120 Authorized Vendors will be asked to provide product information 2 times per year on average.

Estimated Total Annual Responses: The total number of responses is estimated to be 1,200. FNS estimates Food Manufacturers or Distributors will be asked to respond a total of 960 times per year (240 Food Manufacturers or Distributors × 4 responses per year each = 960). FNS estimates Authorized Vendors will be asked to respond a total of 240 times per year (120 Authorized Vendors × 2 responses per year each = 240). All responses are voluntary.

Estimated Time per Response: 8.6 hours.

The estimated time per response varies by type of respondent. FNS expects all respondents will expend 12 hours per respondent per year to develop, maintain, and troubleshoot the electronic systems for use in transmitting information. The estimated time required to develop, maintain, and troubleshoot electronic systems is amortized over the expected number of responses. FNS also expects all respondents will expend 2 seconds per response to transmit information to FNS electronically. Since the time required to actually transmit the information to FNS is considered negligible (total of 40 minutes per year for all respondents), it was omitted from the burden calculation. FNS expects that Food Manufacturers or Distributors will expend 6 hours per response to gather and format the requested information. Authorized Vendors are expected to expend 1 hour per response to gather and format the requested information.The estimated time per response for Food Manufacturers or Distributors is expected to be 9 hours per response ((12 hours per year/4 responses per year) + 6 hours per response = 9 hours per response).

The estimated time per response for Authorized Vendors is expected to be 7 hours per response ((12 hours per year/2 responses per year) + 1 hour per response = 7 hours per response).

Estimated Total Annual Burden on all Respondents: 10,320 hours. The table below provides an estimated total annual burden for each type of respondent.

Respondent | Estimated number of respondents | Frequency of responses per respondent (annually) | Total annual responses | Estimated average number of hours per response | Estimated total hours
Food Manufacturers and Distributors (Voluntary) | 240 | 4 | 960 | 9.0 | 8,640.0
Authorized Vendors (Voluntary) | 120 | 2 | 240 | 7.0 | 1,680.0
Total Reporting Burden | 360 | 3.33 | 1,200 | 8.6 | 10,320.0

Dated: March 19, 2015.
Audrey Rowe,
Administrator, Food and Nutrition Service.

[FR Doc. 2015-07369 Filed 3-30-15; 8:45 am]

BILLING CODE 3410-30-P